PATENT AND TRADEMARK OFFICE

Proposed Information Collection; Payment of Patent and Trademark Office Fees by Credit Card

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before November 18, 2002.

ADDRESSES: Direct all written comments to Susan K. Brown, Records Officer, Office of Data Architecture and Services, Data Administration Division, USPTO, Suite 310, 2231 Crystal Drive, Washington, DC 20231; by telephone at (703) 308-7400; or by electronic mail at susan.brown@uspto.gov.

FOR FURTHER INFORMATION CONTACT: Requests for additional information should be directed to Michelle Picard, Director, Office of Finance, USPTO, Washington, DC 20231; by telephone at (703) 305-8360; or by electronic mail at michelle.picard@uspto.gov.

SUPPLEMENTARY INFORMATION

I. Abstract

Under 35 U.S.C. 41 and 15 U.S.C. 1113, the USPTO charges fees for processing and other services related to patents, trademarks, and information products. The provisions of 35 U.S.C. 41 and 15 U.S.C. 1113 are implemented in 37 CFR 1.16-1.28, 1.492, 2.6, and 2.7.

This information collection was previously submitted in November 1999 in conjunction with a proposed rule that would allow customers to pay any patent or trademark fee by credit card. The Office of Management and Budget (OMB) approved this collection in January 2000. The USPTO published the final rule notice entitled “Changes to Permit Payment of Patent and Trademark Fees by Credit Card” in the Federal Register on May 24, 2000 (Vol. 65, No. 101). This rule amended the rules of practice under 37 CFR 1.23(b) to provide for the payment of any patent or trademark fee by credit card. Previously, credit card payments were limited to fees required for information products or for an electronic submission related to a trademark application.

Payments of fees made by credit card must specify the amount to be charged and other information that is necessary to process the charge, such as a billing address and an authorized signature. Persons submitting fee payments must also provide information concerning the purpose of the fee so that the USPTO is able to (1) apply the fee to the particular application, patent, trademark registration, or other proceeding, service, or product; and (2) determine whether the person has submitted the appropriate fee(s) required by law or regulation.

This information collection includes the Credit Card Payment Form (PTO-2038), which provides the public with a convenient way to submit a credit card payment for fees related to a patent, trademark, or information product. The USPTO is adding the Electronic Credit Card Payment Form to this collection. Customers may use this electronic form to submit credit card payments when using online systems provided by the USPTO for paying fees related to patents, trademarks, or information products. These systems are accessible through the USPTO Web site.

In order to protect the confidentiality of the credit card information, the USPTO will not include the Credit Card Payment Form or Electronic Credit Card Payment Form among the records open to public inspection for a patent, trademark registration, or other proceeding. The USPTO does not require customers to use the Credit Card Payment Form when paying fees by credit card, but using this form is strongly encouraged. If a customer provides credit card information on a form or document (e.g. in correspondence related to a patent or trademark) other than a credit card payment form provided by the USPTO, the credit card information may become part of a patent or trademark file that is open to public inspection. If credit card information is submitted on a form or document other than a credit card payment form provided by the USPTO, the USPTO will not be liable if the credit card information becomes public knowledge.

II. Method of Collection

By mail, facsimile, or hand delivery to the USPTO. Payments using the Electronic Credit Card Payment Form may be submitted electronically over the Internet.

III. Data

OMB Number: 0651-0043.

Form Number(s): PTO-2038.

Type of Review: Revision of a currently approved collection.

Affected Public: Individuals or households; businesses or other for-profits; not-for-profit institutions; farms; the Federal Government; and state, local or tribal governments.

Estimated Number of Respondents: 269,580 responses per year.

Estimated Time Per Response: The USPTO estimates that it will take the public approximately 12 minutes (0.2 hours) to gather the necessary information, prepare, and submit the Credit Card Payment Form or 10 minutes (0.17 hours) to prepare and submit the Electronic Credit Card Payment Form.

Estimated Total Annual Respondent Burden Hours: 48,154 hours per year.

Estimated Total Annual Respondent Cost Burden: $1,444,620 per year.

The USPTO expects that the information in this collection will be prepared by paraprofessionals or fee coordinators/administrators. Using the paraprofessional rate of $30 per hour, the USPTO estimates that the respondent cost burden for this collection will be $1,444,620 per year.

Item | Estimated time for response (in minutes) | Estimated annual responses | Estimated annual burden hours
Credit Card Payment Form | 12 | 77,500 | 15,500
Electronic Credit Card Payment Form | 10 | 192,080 | 32,654
Total |  | 269,580 | 48,154

Estimated Total Annual Non-hour Respondent Cost Burden: $7,194. There are no capital start-up or maintenance costs or filing fees associated with this information collection. However, customers may incur postage costs when submitting the Credit Card Payment Form to the USPTO by mail or recordkeeping costs related to the Electronic Credit Card Payment Form.

Customers generally send the Credit Card Payment Form to the USPTO along with other documents related to the fee or service being paid for by credit card, but some customers may submit just the Credit Card Payment Form without additional supporting documents. The USPTO estimates that roughly 5 percent of the Credit Card Payment Forms may be mailed in by themselves, for a total of 3,875 per year. The USPTO estimates that the first-class postage cost for a mailed Credit Card Payment Form will be 37 cents, for a total postage cost of $1,434 per year.

Customers using the Electronic Credit Card Payment Form may incur recordkeeping costs from printing a copy of the screen or electronic mail message confirming their successful transaction. Currently, a confirmation message may not be available for all transactions, but the USPTO is planning to implement an electronic confirmation receipt for all Internet transactions in FY 2003 or FY 2004. The USPTO estimates that it will take 5 seconds (0.001 hours) to print a copy of the confirmation receipt and that approximately 192,080 submissions per year will use the Electronic Credit Card Payment Form, for a total recordkeeping burden of 192 hours per year. Using the paraprofessional rate of $30 per hour, the USPTO estimates that the recordkeeping cost associated with this collection will be $5,760 per year. The total non-hour respondent cost burden for this collection in the form of postage costs and recordkeeping costs is $7,194 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: September 13, 2002.
Susan K. Brown,
Records Officer, USPTO, Office of Data Architecture and Services, Data Administration Division.

[FR Doc. 02-23763 Filed 9-18-02; 8:45 am]

BILLING CODE 3510-16-P